NATIONAL SCIENCE FOUNDATION

Advisory Committee for Mathematical and Physical Sciences #66; Notice of Meeting; Correction

SUMMARY: The National Science Foundation published a Notice of Meeting for the July 18 Advisory Committee for Mathematical and Physical Sciences in the Federal Register on June 21, 2013. This notice corrects the operated assistance teleconference telephone number and the password.

FOR FURTHER INFORMATION CONTACT: Dr. Kelsey Cook, Staff Associate and MPSAC Designated Federal Officer, Directorate for Mathematical and Physical Sciences, National Science Foundation, 4201 Wilson Blvd., Arlington, VA 22230 Telephone #: 703-292-7490, 703-292-8800—kcook@nsf.gov or Caleb Autrey, Science Assistant, Directorate for Mathematical and Physical Sciences, National Science Foundation, 4201 Wilson Blvd., Arlington, VA 22230 Telephone #: 703-292-5137—cautrey@nsf.gov.

Correction

In the Federal Register of June 21, 2013, on page 37590, in the third column, the last paragraph under “Place” should read:

Operated Assisted teleconference service is available for this meeting. Call 1-866-844-9416. The Operator will ask for the password which is “mps advisory.” You will be connected to the audio portion of the meeting.

Dated: July 9, 2013.
Susanne Bolton,
Committee Management Officer.

[FR Doc. 2013-16799 Filed 7-12-13; 8:45 am]

BILLING CODE 7555-01-P